SMALL BUSINESS ADMINISTRATION

[Declaration of Disaster #3404]

Commonwealth of Kentucky

As a result of the President's major disaster declaration on April 4, 2002, I find that Bath, Bell, Bourbon, Boyd, Carter, Clay, Elliott, Fleming, Greenup, Harlan, Knox, Laurel, Lawrence, Letcher, Leslie, Lewis, McCreary, Menifee, Montgomery, Morgan, Nicholas, Perry, Rowan and Whitley Counties in the Commonwealth of Kentucky constitute a disaster area due to damages caused by severe storms and flooding occurring on March 17 through March 21, 2002. Applications for loans for physical damage as a result of this disaster may be filed until the close of business on June 3, 2002 and for economic injury until the close of business on January 6, 2003 at the address listed below or other locally announced locations: U.S. Small Business Administration, Disaster Area 2 Office, One Baltimore Place, Suite 300, Atlanta, GA 30308.

In addition, applications for economic injury loans from small businesses located in the following contiguous counties may be filed until the specified date at the above location: Breathitt, Clark, Fayette, Harrison, Jackson, Johnson, Knott, Magoffin, Martin, Mason, Owsley, Pike, Powell, Pulaski, Robertson, Rockcastle, Scott, Wayne and Wolfe in the Commonwealth of Kentucky; Adams, Lawrence and Scioto counties in the State of Ohio; Campbell, Claiborne and Scott counties in the State of Tennessee; Lee and Wise counties in the Commonwealth of Virginia; and Wayne county in the State of West Virginia.

The interest rates are:

| Percent
For Physical Damage:
Homeowners With Credit Available Elsewhere | 6.625
Homeowners Without Credit Available Elsewhere | 3.312
Businesses With Credit Available Elsewhere | 7.000
Businesses and Non-Profit Organizations Without Credit Available Elsewhere | 3.500
Others (Including Non-Profit Organizations) With Credit Available Elsewhere | 6.375
For Economic Injury:
Businesses and Small Agricultural Cooperatives Without Credit Available Elsewhere | 3.500

The number assigned to this disaster for physical damage is 340411. For economic injury the number is 9P1800 for Kentucky; 9P1900 for Ohio; 9P2000 for Tennessee; 9P2100 for Virginia; and 9P2200 for West Virginia.

(Catalog of Federal Domestic Assistance Program Nos. 59002 and 59008)
Dated: April 5, 2002.
S. George Camp,
Acting Associate Administrator for Disaster Assistance.

[FR Doc. 02-8861 Filed 4-11-02; 8:45 am]

BILLING CODE 8025-01-P